DEPARTMENT OF COMMERCE

National Oceanic and Atmospheric Administration

RIN 0648-XA708

Fisheries of the South Atlantic and Gulf of Mexico; South Atlantic Fishery Management Council; Public Meeting; Correction

AGENCY: National Marine Fisheries Service (NMFS), National Oceanic and Atmospheric Administration (NOAA), Commerce.

ACTION: Addendum to the previous notice of South Atlantic Fishery Management Council's Scientific and Statistical Committee (SSC) meeting.

SUMMARY: This notice amends an earlier notice for the meeting. The SAFMC is adding an agenda item to consider wreckfish stock status and fishing level recommendations to the November 8-10 SSC meeting. The meeting will be held in Charleston, SC. See SUPPLEMENTARY INFORMATION.

DATES: The meeting will be held November 8-10, 2011. See SUPPLEMENTARY INFORMATION.

ADDRESSES: The meeting will be held at the Hampton Inn, 678 Citadel Haven Drive, Charleston, SC 29414; telephone: (843) 573-1200.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: The original noticed published in the Federal Register on September 19, 2011 (76 FR 57958).

Under the Magnuson-Stevens Reauthorized Act, the SSC is the body responsible for reviewing the Council's scientific materials. An earlier FRN indicated that the SSC will discuss fishery management plan (FMP) amendments under development, assessments of black sea bass and tilefish, review advancements in ABC control rule development, review planning information for assessments of Spanish mackerel and cobia to be developed in 2013, and discuss the findings of the National SSC workshop. In addition to these topics, the SSC will also be asked to review additional information on the status of South Atlantic wreckfish, and consider modifying Overfishing Levels (OFL) and Acceptable Biological Catch (ABC) recommendations if warranted.

SSC Meeting Schedule

November 8, 2011, 9 a.m.-6 p.m.

November 9, 2011, 9 a.m.-6 p.m.

November 10, 2011, 9 a.m.-3 p.m.

Special Accommodations

These meetings are physically accessible to people with disabilities. Requests for sign language interpretation or other auxiliary aids should be directed to the Council office (see ADDRESSES) at least 3 business days prior to the meeting.

Dated: October 4, 2011.
Tracey L. Thompson,
Acting Director, Office of Sustainable Fisheries, National Marine Fisheries Service.

[FR Doc. 2011-26042 Filed 10-6-11; 8:45 am]

BILLING CODE 3510-22-P